Medicare Payment Advisory Commission

Commission Meeting

AGENCY: MEDICARE PAYMENT ADVISORY COMMISSION.

ACTION: Notice of meeting.

SUMMARY: The Commission will hold its next public meeting on Thursday, December 12, 2002, and Friday, December 13, 2002, at the Ronald Reagan Building, International Trade Center, 1300 Pennsylvania Avenue, NW., Washington, DC. The meeting is tentatively scheduled to begin at 9:30 a.m. on December 12, and at 9 a.m. on December 13.

Topics for discussion include: Beneficiaries' spending for Medicare and other health care services; payment adequacy and updating Medicare payments; comparing of Medicare physician payments to the private sector; paying for new technologies; PPS for inpatient psychiatric facilities; Medicare+Choice and other options available to beneficiaries; expanded transfer policy for hospital inpatient services; indirect medical education payments above the costs of teaching; and beneficiaries' access to care.

Agendas will be mailed on December 4, 2002. The final agenda will be available on the Commission's website (http://www.MedPAC.gov.)

ADDRESSES: MedPAC's address is: 601 New Jersey Avenue, NW., Suite 9000, Washington, DC 20001. The telephone number is (202) 220-3700.

FOR FURTHER INFORMATION CONTACT: Diane Elllison, Office Manager, (202) 220-3700.

Mark E. Miller,
Executive Director.

[FR Doc. 02-30393 Filed 11-29-02; 8:45 am]

BILLING CODE 6820-BW-M